DEPARTMENT OF TRANSPORTATION

Federal Aviation Administration

Notice of Intent of Waiver With Respect to Land; Indianapolis Downtown Heliport, Indianapolis, IN

AGENCY: Federal Aviation Administration (FAA), DOT.

ACTION: Notice.

SUMMARY: The FAA is considering a proposal to permanently close the Indianapolis Downtown Heliport and change 5.36 acres of land from aeronautical use to non-aeronautical use and to authorize the sale of all heliport property located at the Indianapolis Downtown Heliport (8A4), Indianapolis, Indiana. FAA received two requests to reconsider its intent to permit the proposed permanent closure of 8A4 as well as the release and sale of the heliport property.

The Indianapolis Airport Authority (Authority) has submitted a request to release the Authority from its Federal Airport Improvement Program (AIP) obligations associated with Indianapolis Downtown Heliport. On December 10, 2025, and December 23, 2025, the FAA received written requests to reconsider the proposed permanent closure of 8A4 and release and sale of the heliport property.

DATES: Comments must be received on or before February 12, 2026.

ADDRESSES: All requisite and supporting documentation will be made available for review by appointment at the FAA Chicago Airports District Office, Melanie Myers, Program Manager, 2300 East Devon Avenue, Des Plaines, IL 60018, Telephone: (847) 294-7525.

Written comments on the Sponsor's request may be submitted using any of the following methods:

• Federal eRulemaking Portal: Go to https://www.regulations.gov, and follow the instructions for sending your comments electronically.

• Mail: Melanie Myers, Program Manager, Federal Aviation Administration, Chicago Airports District Office, 2300 East Devon Avenue, Des Plaines, IL 60018.

• Hand Delivery: Deliver to mail address above between 8 a.m. and 5 p.m. Monday through Friday, excluding Federal holidays.

FOR FURTHER INFORMATION CONTACT: Melanie Myers, Program Manager, Federal Aviation Administration, Chicago Airports District Office, 2300 East Devon Avenue, Des Plaines, IL 60018, Telephone: (847) 294-7525.

SUPPLEMENTARY INFORMATION: In accordance with section 47107(h) of Title 49, United States Code, this notice is required to be published in the Federal Register 30 days before modifying the land-use assurance that requires the property to be used for an aeronautical purpose.

The FAA published a Notice of Intent of Waiver With Respect to Land; Indianapolis Downtown Heliport, Indianapolis, IN, 88 FR 8029 (February 7, 2023). In that notice, FAA requested public comments on the proposed permanent closure of 8A4 and change of 5.36 acres of land from aeronautical use to non-aeronautical use and to authorize the sale of all heliport property located at the Heliport. After reviewing information related to the proposed release and closure of 8A4, on November 25, 2024, FAA issued IAA a letter of intent to release all federal obligations and approve permanent heliport closure. FAA then published a Notice of Permanent Closure; Indianapolis Downtown Heliport, Indianapolis, Indiana, indicating 8A4 would close on December 15, 2025. 90 FR 51067 (November 14, 2025).

On December 10, 2025, and December 23, 2025, the FAA received written requests that FAA reconsider its intent to permit the proposed permanent closure of 8A4 and release and sale of the heliport property.

This notice announces that the FAA is seeking further public comment on the proposed permanent closure and release of the subject heliport property at the Indianapolis Downtown Heliport, Indianapolis, Indiana, from federal land covenants.

Issued in Des Plaines, Illinois, on January 9, 2026.
Debra L. Bartell,
Acting Deputy Director, Airports Division, Great Lakes Region.

[FR Doc. 2026-00480 Filed 1-12-26; 8:45 am]

BILLING CODE 4910-13-P